CORPORATION FOR NATIONAL AND COMMUNITY SERVICE

Proposed Information Collection; Comment Request

AGENCY: Corporation for National and Community Service.

ACTION: Notice.

SUMMARY: The Corporation for National and Community Service (CNCS), as part of its continuing effort to reduce paperwork and respondent burden, conducts a pre-clearance consultation program to provide the general public and federal agencies with an opportunity to comment on proposed and/or continuing collections of information in accordance with the Paperwork Reduction Act of 1995 (PRA95) (44 U.S.C. Sec. 3506(c)(2)(A)). This program helps to ensure that requested data can be provided in the desired format, reporting burden (time and financial resources) is minimized, collection instruments are clearly understood, and the impact of collection requirement on respondents can be properly assessed.

Currently, CNCS is soliciting comments concerning its proposed renewal of Independent Living Performance Measures Aggregation Tool and the two surveys that are associated with it. The instrument is currently being used by existing Senior Companion Program grantees. Copies of the information collection request can be obtained by contacting the office listed in the Addresses section of this Notice.

DATES: Written comments must be submitted to the individual and office listed in the ADDRESSES section by July 18, 2016.

ADDRESSES: You may submit comments, identified by the title of the information collection activity, by any of the following methods:

(1) By mail sent to: Corporation for National and Community Service, Office of Research and Evaluation; Attention Anthony Nerino, Research Analyst, Room #3235E, 250 E St. SW., Washington, DC, 20525.

(2) By hand delivery or by courier to the CNCS mailroom at the mail room on the 4th floor at the mail address given in paragraph (1) above, between 9:00 a.m. and 4:00 p.m. Eastern Time, Monday through Friday, except Federal holidays.

(3) Electronically through www.regulations.gov.

Individuals who use a telecommunications device for the deaf (TTY-TDD) may call 1-800-833-3722 between 8:00 a.m. and 8:00 p.m. Eastern Time, Monday through Friday.

FOR FURTHER INFORMATION CONTACT: Anthony Nerino, 202-606-3913, or by email at anerino@cns.gov.

SUPPLEMENTARY INFORMATION: CNCS is particularly interested in comments that:

• Evaluate whether the proposed collection of information is necessary for the proper performance of the functions of CNCS, including whether the information will have practical utility;

• Evaluate the accuracy of the agency's estimate of the burden of the proposed collection of information, including the validity of the methodology and assumptions used;

• Enhance the quality, utility, and clarity of the information to be collected; and

• Minimize the burden of the collection of information on those who are expected to respond, including the use of appropriate automated, electronic, mechanical, or other technological collection techniques or other forms of information technology (e.g., permitting electronic submissions of responses).

Background

Senior Companion Program grantees are required to use the currently cleared surveys to solicit outcome data from clients and caregivers served by Senior Companion volunteers.

Current Action

CNCS seeks to renew the current information collection instrument aggregation tool and surveys. The information collection will be used in the same manner as the existing surveys and aggregation tool. CNCS also seeks to continue using the current information collection until the revised instruments are approved by OMB. The current application is due to expire on July 31, 2016.

Type of Review: Renewal.

Agency: Corporation for National and Community Service.

Title: Independent Living Performance Measures Aggregation Tool and Independent Living and Respite Surveys.

OMB Number: 3045-0152.

Agency Number: None.

Affected Public: Senior Companion Program grantees.

Total Respondents: 53,470.

Frequency: Once.

Average Time per Response: Averages 30 minutes.

Estimated Total Burden Hours: 26,735 hours.

Total Burden Cost (capital/startup): None.

Total Burden Cost (operating/maintenance): None.

Comments submitted in response to this notice will be summarized and/or included in the request for Office of Management and Budget approval of the information collection request; they will also become a matter of public record.

Dated: May 13, 2016.
Mikel Herrington,
Acting Director Senior Corps.

[FR Doc. 2016-11834 Filed 5-18-16; 8:45 am]

BILLING CODE 6050-28-P